DEPARTMENT OF AGRICULTURE

Agricultural Marketing Service

7 CFR Part 1220

[Doc. No. AMS-LP-23-0079]

Soybean Promotion and Research: Adjustments to Representation on the United Soybean Board

AGENCY: Agricultural Marketing Service, USDA.

ACTION: Final rule.

SUMMARY: This final rule adjusts the number of members on the United Soybean Board (Board) to reflect changes in production levels that have occurred since the Board was last reapportioned in 2021. As required by the Soybean Promotion, Research, and Consumer Information Act (Act), membership on the Board is reviewed every 3-years and adjustments are made accordingly. These adjustments decrease Board membership for the State of North Dakota from four members to three members and increase Board membership for the State of New York from one member to two members, thus the total number of Board members will remain at 77. These changes will be reflected in the Soybean Promotion and Research Order (Order) and become effective with the Secretary of Agriculture's (Secretary) appointments for terms in 2025.

DATES: This final rule is effective as of December 18, 2024.

FOR FURTHER INFORMATION CONTACT: Jason Julian, Research and Promotion Division, at (202) 731-2149; or by email at jason.julian@usda.gov.

SUPPLEMENTARY INFORMATION:

Executive Orders 12866, 13563 and 14094

USDA issues this final rule in conformance with Executive Orders (E.O.) 12866, 13563, and 14094. Executive Orders 12866 and 13563, and 14094 direct agencies to assess all costs and benefits of available regulatory alternatives and, if regulation is necessary, to select regulatory approaches that maximize net benefits (including potential economic, environmental, public health and safety effects, distributive impacts, and equity). E.O. 13563 emphasizes the importance of quantifying both costs and benefits, reducing costs, harmonizing rules, and promoting flexibility. E.O. 14094 reaffirms, supplements, and updates E.O. 12866 and further directs agencies to ask for and consider input from a wide range of affected and interested parties through a variety of means. This final rule is not a significant regulatory action within the meaning of E.O. 12866. So, this action has not been reviewed by the Office of Management and Budget (OMB).

Executive Order 13175

This action has been reviewed per the requirements of E.O. 13175, Consultation and Coordination with Indian Tribal Governments, which requires agencies to consider whether their rulemaking actions would have Tribal implications. The review revealed that this regulation would not have substantial and direct efforts on Tribal governments or significant Tribal implications.

Executive Order 12988

This final rule was reviewed under E.O. 12988, Civil Justice Reform. This rule is not intended to have retroactive effect.

The Act (7 U.S.C. 6309) provides that nothing in the Act may be construed to preempt or supersede any other program relating to soybean promotion organized and operated under the laws of the U.S. or any State. There are no administrative proceedings that must be exhausted prior to any judicial challenge to the provisions of this rule.

Paperwork Reduction Act

In accordance with OMB regulations (5 CFR part 1320) that implement the Paperwork Reduction Act of 1995 (44 U.S.C. part 35), the information collection and recordkeeping requirements contained in the Order and accompanying Rules and Regulations have previously been approved by OMB and were assigned OMB control number 0581-0093.

Background

The Board was initially appointed on July 11, 1991, per the provisions of the Act (7 U.S.C. 6301-6311), and the Order (7 CFR part 1220) issued thereunder. The Order set up an initial Board with sixty members, composed of soybean producers. For purposes of setting up the Board, the United States was divided into 31 States and geographical units. Representation on the Board from each unit was determined by the level of production in each unit.

Reapportionment

Section 1220.201(c) of the Order provides that at the end of each 3-year period, the Board shall review soybean production levels in the geographic units throughout the United States. Section 1220.130 of the Order defines a unit as each State, or group of States, which is represented on the Board. The Board may recommend to the Secretary that Board membership for each unit be changed to reflect current production levels.

Section 1220.201(d) of the Order provides that at the end of each 3-year period, the Secretary must review the volume of production of each unit and adjust the boundaries of any unit and the number of Board members from each such unit as necessary to conform with the criteria set forth in § 1220.201(e): (1) To the extent practicable, States with annual average soybean production of less than 3 million bushels shall be grouped into geographically contiguous units, each of which has a combined production level equal to or greater than 3 million bushels, and each such group shall be entitled to at least 1 member on the Board; (2) units with at least 3 million bushels, but fewer than 15 million bushels shall be entitled to 1 board member; (3) units with 15 million bushels or more but fewer than 70 million bushels shall be entitled to 2 Board members; (4) units with 70 million bushels or more but fewer than 200 million bushels shall be entitled to 3 Board members; and (5) units with 200 million bushels or more shall be entitled to 4 Board members.

The Board was last reapportioned in 2021. The total Board membership decreased from 78 to 77 members, with Alabama decreasing one member. The final rule was published in the Federal Register (86 FR 61668) on November 8, 2021, and became effective with the 2022 appointments.

This final rule keeps total membership of the Board at 77 members. Production data was used for years 2018-2022 (excluding the crops in years in which production was the highest and in which production was the lowest in each State) was reported by USDA's National Agricultural Statistics Service (NASS). This change does not affect the number of geographical units.

This final rule adjusts representation on the Board as follows:

State | Previous representation | Current representation
New York | 1 | 2
North Dakota | 4 | 3

Board adjustments by this final rule will become effective with the 2025 appointment process.

Summary of Comments

A proposed rule was published in the Federal Register (89 FR 51277) on June 17, 2024, with a 30-day comment period. USDA received three comments. One comment communicated displeasure for North Dakota's decreased number from four seats to three seats. Upon reviewing the requirements of the Act and Order, USDA determined that leaving the North Dakota seats at four would not be consistent with the Act and Order, which requires that at the end of each 3-year period, the Secretary review the volume of production of each unit and adjust the boundaries of any unit and the number of Board members from each such unit as necessary to conform with the formula to determine the number of directors for each unit set forth in § 1220.201(e) of the Order. This was done by calculating production data for years 2018-2022 (excluding the crops in years in which production was the highest and in which production was the lowest in each State) as reported by USDA's NASS, resulting in a 3-year average for North Dakota that fell below the required number of bushels to retain four seats under § 1220.201(e)(5) of the Order. Accordingly, no change is made in response to this comment.

One comment was in favor of the seat adjustments for North Dakota and New York.

One comment was not germane to the proposed rule.

Regulatory Flexibility Act

Pursuant to the requirements set forth in the Regulatory Flexibility Act (RFA) (5 U.S.C. 601-612), the Agricultural Marketing Service (AMS) considered the economic effect of this action on small entities and determined that this final rule would not have a significant economic impact on a substantial number of small entities. The purpose of the RFA is to fit regulatory actions to the scale of businesses subject to such actions in order that small businesses will not be unduly burdened.

Effective August 19, 2019, the Small Business Administration (SBA) (13 CFR 121.201) published an interim final rule (84 FR 34261) that adjusts the monetary-based size standards for inflation. As a result of this rule, the size classification for soybean producers changed from sales of $750,000 or less to sales of $1,000,000 or less. There are an estimated 413,358 soybean producers and an estimated 10,000 first purchasers who collect the assessment, most who would be considered small businesses under the criteria set up by SBA.

According to USDA's NASS 2022 Census of Agriculture, the number of operations in the United States with soybean production totaled 270,851.¹ The most recent (2022) Census of Agriculture data show that roughly 19 percent of producers with soybean production, or 52,756 operations, have annual receipts of $1,000,000 or more.² Therefore, most soybean producers, 81 percent, are considered small businesses with the new SBA guidance. It should be noted that producers are only indirectly affected by this final rule.

¹ https://www.nass.usda.gov/AgCensus/index.php.

² https://quickstats.nass.usda.gov/results/F0860BE3-0E1F-33B4-8571-74E2B061CBED.

This final rule imposes no new burden on the industry, as it only adjusts representation on the Board to reflect changes in soybean production. The adjustments are required by the Order and do not result in a change to Board membership, which will remain at 77 members.

AMS is committed to following e-Government Act of 2002 to promote the use of the internet and other information technologies to provide increased opportunities for citizen access to government information and services, and for other purposes.

USDA has not found any relevant Federal rules that duplicate, overlap, or conflict with this rule.

List of Subjects in 7 CFR Part 1220

Administrative practice and procedure, Advertising, Agricultural research, Marketing agreements, Reporting and recordkeeping requirements, Soybeans.

For the reasons set forth in the preamble, the Agricultural Marketing Service amends 7 CFR part 1220 as follows:

PART 1220—SOYBEAN PROMOTION, RESEARCH, AND CONSUMER INFORMATION

1. The authority citation for 7 CFR part 1220 continues to read as follows:

Authority: 7 U.S.C. 6301-6311 and 7 U.S.C. 7401.

2. Amend § 1220.201 by revising paragraph (a) to read as follows:

§ 1220.201 Membership of Board.

(a) For the purposes of nominating and appointing producers to the Board, the United States shall be divided into thirty-one geographic units and the number of Board members from each unit, subject to paragraphs (d) and (e) of this section shall be as follows:

Table 1 to Paragraph (a)
State/unit | Number of members
South Dakota | 4
Ohio | 4
Nebraska | 4
Missouri | 4
Minnesota | 4
Iowa | 4
Indiana | 4
Illinois | 4
North Dakota | 3
Wisconsin | 3
Tennessee | 3
Mississippi | 3
Michigan | 3
Kentucky | 3
Kansas | 3
Arkansas | 3
Virginia | 2
Pennsylvania | 2
North Carolina | 2
Maryland | 2
Louisiana | 2
New York | 2
Alabama | 1
Texas | 1
South Carolina | 1
Oklahoma | 1
New Jersey | 1
Georgia | 1
Delaware | 1
Unit:
Eastern Region (Connecticut, Florida, Maine, Massachusetts, New Hampshire, Rhode Island, Vermont, West Virginia, District of Columbia, and Puerto Rico) | 1
Western Region (Alaska, Arizona, California, Colorado, Hawaii, Idaho, Montana, Nevada, New Mexico, Oregon, Utah, Washington, and Wyoming) | 1

* * * * *

Melissa Bailey,
Associate Administrator, Agricultural Marketing Service.

[FR Doc. 2024-26787 Filed 11-15-24; 8:45 am]

BILLING CODE P